DEPARTMENT OF DEFENSE

Office of the Secretary

Notice of Intent to Prepare a Programmatic Environmental Impact Statement for Defense Threat Reduction Agency Activities at White Sands Missile Range, NM

AGENCY: Office of the Under Secretary of Defense for Acquisition, Technology, and Logistics, Defense Threat Reduction Agency, DoD.

ACTION: Notice of intent.

SUMMARY: Pursuant to section 102(2)(c) of the National Environmental Act (NEPA), 42 U.S.C. 4321-4370, as implemented by the Council of Environmental Quality Regulations (40 CFR parts 1500-1508), the Defense Threat Reduction Agency (DTRA) announces intent to prepare a Draft Programmatic Environmental Impact Statement (PEIS) in support of activities at White Sands Missile Range (WSMR), New Mexico. As a major cooperating agency, WSMR will participate in the preparation of the PEIS. Future development of DTRA's testing facilities and program, and its scope require an PEIS to adequately address potential environmental impacts.

ADDRESSES: Written comments may be forwarded to the Defense Threat Reduction Agency, ATTN: DTRA/TDTS, 1680 Texas St., SE., Kirtland AFB, NM 87117-5669. Emails may be forwarded to Thomas.Vanalstyne@ao.dtra.mil.

FOR FURTHER INFORMATION CONTACT: LTC Thomas Van Alstyne, EN, Environmental Engineer, DTRA at (505) 846-6612 or email Thomas.Vanalstyne@Qao.dtra.mil.

SUPPLEMENTARY INFORMATION: White Sands Missile Range covers approximately 8,288 km² (3,200 mi² ) of south-central New Mexico. Proposed DTRA activities at WSMR have the potential to significantly impact certain natural, social, cultural, and economic resources in the region. The study area for environmental analyses will include the Hard Target Defeat Test bed (HTDT), Permanent High Explosive Test Site (PHETS), Seismic Hardrock In Situ Test site (SHIST), Alternate SHIST, and Large Blast/Thermal Simulator (LBTS). The objective will be to provide a thorough, comprehensive and PEIS that will serve as a planning and decision-making tool, a public information source, and a reference for mitigation tracking concerning DTRA future activities.

Alternatives may consist of alternative locations or modifications of specific activities. These alternatives will be developed during preparation of the Draft PEIS as a result of environmental analyses of the activities and public input.

Significant Issues: Certain biologically diverse areas on White Sands Missile Range utilized by the Defense Threat Reduction Agency serve as habitat or potential habitat for protected floral and faunal (plan and animal) species. To date, several locations in the areas to be studied have been identified as important cultural resources. The most significant are Ground Zero and McDonald Ranch House, part of Trinity Site National Historic Landmark, located within the Permanent High Explosive Test Site boundaries.

Significant issues that will be addressed in the Draft PEIS include:

1. The continued operation and maintenance of various test structures used as targets for weapon system evaluations.

2. Construction of new test structures, enlargement of existing test beads, and possible development of new test beds.

3. Testing, operations and maintenance activities at tunnel targets in the Capitol Canyon area (HTDT).

4. The use of chemical and biological simulants in collateral damage tests.

5. Planned improvements to the DTRA Administrative Park within the PHETS boundaries. Public scoping meeting will be held in the vicinity of WSMR, New Mexico, to facilitate input to the PEIS. The schedule and location for these meetings will be announced in the news media and the Federal Register.

For those that cannot attend the public scoping meetings, written comments via mail or email are encouraged. Comments should clearly identify and describe the specific issue(s) or topics that the PEIS should address.

To be considered in the Draft PEIS, comments and suggestions should be received no later than 30 days following the public scoping meeting.

Dated: May 12, 2003.
Patricia L. Toppings,
Alternate OSD Federal Register Liaison Officer, Department of Defense.

[FR Doc. 03-12409 Filed 5-16-03; 8:45 am]

BILLING CODE 5001-08-M